DEPARTMENT OF AGRICULTURE

Forest Service

Information Collection: Forest Industries and Logging Operations Data Collection Systems

AGENCY: Forest Service, USDA.

ACTION: Notice; request for comment.

SUMMARY: In accordance with the Paperwork Reduction Act of 1995, the Forest Service is seeking comments from all interested individuals and organizations on the extension with revision of a currently approved information collection, Forest Industries and Logging Operations Data Collection Systems.

DATES: Comments must be received in writing on or before October 12, 2021 to be assured of consideration. Comments received after that date will be considered to the extent practicable.

ADDRESSES: Comments concerning this notice should be addressed to:

Email: consuelo.brandeis@usda.gov.

Mail: Consuelo Brandeis, Southern Research Station, Forest Inventory and Analysis, Department of Agriculture, Forest Service, 4700 Old Kingston Pike, Knoxville, TN 37919.

Telephone: 865-862-2028.

Facsimile: 865-862-0262.

Comments submitted in response to this notice may be made available to the public through relevant websites and upon request. For this reason, please do not include any information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Consuelo Brandeis, Southern Research Station, at 865-862-2028. Individuals who use telecommunication devices for the deaf (TDD) may call the Federal Relay Service (FRS) at 1-800-877-8339 twenty-four hours a day, every day of the year, including holidays.

SUPPLEMENTARY INFORMATION:

Title: Forest Industries and Logging Operations Data Collection Systems.

OMB Number: 0596-0010.

Expiration Date of Approval: February 28, 2022.

Type of Request: Extension with revision of a currently approved information collection.

Abstract: The Forest and Range Renewable Resources Planning Act of 1974 and the Forest and Rangeland Renewable Resources Research Act of 1978 require the Forest Service to evaluate trends in the use of roundwood (logs in whole or chipped form), to forecast anticipated levels of roundwood use and availability, and to analyze changes in the harvest of these resources from the United States' forests. This data collection effort has been conducted since the mid-1970s, with various adjustments through time to accommodate new questions, sampling approaches, and/or data collection needs. Data collection is performed by Forest Service personnel and cooperators from State natural resource agencies and universities. Currently, the data collection gathers information from two groups: Primary wood industry and logging operations.

Primary Wood Industry Questionnaire: This questionnaire is used by the Forest Service to collect and evaluate information from primary wood-using mills, including small, part-time mills, as well as large corporate entities. Primary wood-using mills are facilities that use roundwood to manufacture a primary product, such as lumber, wood pulp, veneer, etc. Forest Service personnel evaluate the information collected and use it to monitor volume of roundwood harvested throughout the Nation by primary product type, tree species, and origin. The information gathered is not available from other sources and provides baseline data for resource analyses, which are a key component in the formulation of forestry programs, industrial expansion decisions, and forest policy. Primary wood industry questionnaires are delivered to mills via regular mail or through email. Responses are collected through email, regular mail, phone interviews, or personal mill visits.

Logging Operations Questionnaire: This questionnaire is used by the Forest Service to collect and evaluate information from logging operations to help characterize the logging industry and its response to outside influences. The information is used to measure the `health' of the logging industry as well as to provide background information for decision-making. The logging operations questionnaire is administered in person by field personnel during tree utilization data collection at sampled logging sites.

For this extension, we are proposing to revise the questionnaire for the primary wood industry survey to simplify the format and eliminate questions that are no longer needed. At the same time, we propose to test a few survey mechanisms that could help improve survey response and lower respondents' burden by piloting various survey structures including different questionnaire lengths (e.g., a three-question post-card or a short version of the traditional survey). We also propose using a cognitive survey to assess respondent's understanding of the survey questions and to identify areas of potential clarification. These proposed tests are in direct response to comments from data users, state partners, and other stakeholders indicating the need to adopt new approaches to motivate higher response rates. The logging operations survey will remain unchanged from the currently approved version.

In summary, this information collection will generate scientifically based, statistically reliable, up-to-date information about utilization of timber resources of the United States. Our testing efforts will allow us to improve the quality of data obtained. The results of these efforts contribute to the availability of reliable information on timber resource use, facilitating more complete and accurate assessments of forest resources at state, regional, and national levels.

Affected Public: Individuals and the Private Sector (Businesses). In particular, mill owners and representatives, procurement foresters and loggers.

Estimate of Burden per Response: Accounting for the proposed tests, the primary wood industry questionnaire's estimated burdens are 41 minutes for the traditional format, to be delivered to a sample of 2,500 mills; 25 minutes for the short-form test version going to a sample of 98 mills; five minutes for the three-question post-card test to be sent to a sample of 2,500 mills; five minutes to a sample of 500 mills which will be screened for the cognitive interview; and 60 minutes for the cognitive interviews to be conducted for 20 mills identified during the screening process. Estimated time burden for the logging operations questionnaire is 11 minutes to be distributed to a sample of 150 logging operations.

Estimated Annual Number of Respondents: 5,768.

Estimated Annual Number of Responses per Respondent: 1.

Estimated Total Annual Burden on Respondents: 2,060 hours.

Comment is invited on: (1) Whether this collection of information is necessary for the stated purposes and proper performance of the functions of the Agency, including whether the information will have practical or scientific utility; (2) the accuracy of the Agency's estimate of the burden of the information collection, including validity of the methodology and assumptions used; (3) ways to enhance the quality, utility, and clarity of the information to be collected; and (4) ways to minimize the burden of the information collection on respondents, including the use of automated, electronic, mechanical, or other technological collection techniques or other forms of information technology.

All comments received in response to this notice, including names and addresses when provided, will be a matter of public record. Comments will be summarized and included in the submission request toward Office of Management and Budget approval.

Alexander L. Friend,
Deputy Chief, Research and Development.

[FR Doc. 2021-17319 Filed 8-12-21; 8:45 am]

BILLING CODE 3411-15-P